LIBRARY OF CONGRESS

Copyright Office

37 CFR Part 210

[Docket No. 2022-5]

Termination Rights and the Music Modernization Act's Blanket License

AGENCY: U.S. Copyright Office, Library of Congress.

ACTION: Notice of proposed rulemaking; extension of comment period.

SUMMARY: The U.S. Copyright Office is extending the deadline for the submission of written comments in response to its October 25, 2022 notice of proposed rulemaking regarding the applicability of the derivative works exception to termination rights under the Copyright Act to the statutory mechanical blanket license established under the Orrin G. Hatch-Bob Goodlatte Music Modernization Act.

DATES: The comment periods for the notice of proposed rulemaking published October 25, 2022, at 87 FR 64405, are extended. Written comments must be received no later than 11:59 p.m. Eastern Time on December 1, 2022. Written reply comments must be received no later than 11:59 p.m. Eastern Time on January 5, 2023.

ADDRESSES: For reasons of governmental efficiency, the Copyright Office is using the regulations.gov system for the submission and posting of public comments in this proceeding. All comments are therefore to be submitted electronically through regulations.gov. Specific instructions for submitting comments are available on the Copyright Office's website at https://copyright.gov/rulemaking/mma-termination. If electronic submission of comments is not feasible due to lack of access to a computer or the internet, please contact the Copyright Office using the contact information below for special instructions.

FOR FURTHER INFORMATION CONTACT: Megan Efthimiadis, Assistant to the General Counsel, by email at meft@copyright.gov or telephone at 202-707-8350.

SUPPLEMENTARY INFORMATION: On October 25, 2022 the Office issued a notice of proposed rulemaking seeking public comments regarding the applicability of the derivative works exception to termination rights under the Copyright Act to the statutory mechanical blanket license established under the Orrin G. Hatch-Bob Goodlatte Music Modernization Act. 87 FR 64405 (October 25, 2022).

In light of the Thanksgiving and Christmas holidays, to ensure that members of the public have sufficient time to respond, and to ensure that the Office has the benefit of a complete record, the Office is extending the deadline for the submission of written comments to no later than 11:59 p.m. Eastern Time on December 1, 2022 and is extending the deadline for the submission of written reply comments to no later than 11:59 p.m. Eastern Time on January 5, 2023.

Dated: November 17, 2022.
Suzanne V. Wilson,
General Counsel and Associate Register of Copyrights.

[FR Doc. 2022-25447 Filed 11-21-22; 8:45 am]

BILLING CODE 1410-30-P